DEPARTMENT OF COMMERCE

National Oceanic and Atmospheric Administration

50 CFR Part 622

[I.D. 012802D]

Fisheries of the Caribbean, Gulf of Mexico, and South Atlantic; Shrimp Fishery off the Southern Atlantic States; Amendment 6

AGENCY: National Marine Fisheries Service (NMFS), National Oceanic and Atmospheric Administration (NOAA), Commerce.

ACTION: Notice of intent to prepare a draft supplemental environmental impact statement (DSEIS); request for comments.

SUMMARY: The South Atlantic Fishery Management Council (Council) intends to prepare a DSEIS to assess the impacts on the natural and human environment of the management measure being developed in its draft Amendment 6 to the Fishery Management Plan for the Shrimp Fishery of South Atlantic Region (FMP).

DATES: Written comments on the scope of issues to be addressed in the preliminary DSEIS will be accepted through March 21, 2002.

ADDRESSES: Comments and requests for copies of the scoping documents should be sent to Robert K. Mahood, Executive Director, South Atlantic Fishery Management Council, One Southpark Circle, Suite 306, Charleston, SC 29407-4699, FAX: 843-769-4520; email: robert.mahood@noaa.gov.

FOR FURTHER INFORMATION CONTACT: Kim Iverson, Public Information Office; 843-571-4366 or kim.iverson@noaa.gov.

SUPPLEMENTARY INFORMATION: The shrimp fishery off the South Atlantic States in the exclusive economic zone (EEZ) is managed under the FMP. Following Council preparation, the FMP was approved and implemented by NMFS under the authority of the Magnuson Fishery Conservation and Management Act in June of 1993. Currently, the Council is preparing draft FMP Amendment 6 and a DSEIS as an integrated part of the Amendment. The DSEIS will discuss the proposed Amendment 6 management measures in conjunction with reasonable alternatives. Each alternative will be assessed in relation to the environmental consequences with a no-action alternative considered as one of the options.

The South Atlantic shrimp fishery consists of white (Penaeus setiferus), brown (Penaeus aztecus), pink (Penaeus duorarum), rock (Sicyonia brevirostris), and royal red shrimp (Hymenopenaeus robustus). The FMP applies to the shrimp fishery in the South Atlantic EEZ from the southeast coast of Florida to the North Carolina/Virginia border. The management unit consists of white and rock shrimp, which were added under the original FMP and amendment 1 respectively. Amendment 2 added both brown and pink shrimp.

Current management measures are intended to reduce and protect shrimp populations and habitat. One key element of the management plan allows the states bordered by the South Atlantic EEZ to request a closure in Federal waters adjacent to closed state waters for white shrimp following severe cold weather that results in an 80-percent or greater reduction in the population of white shrimp (whiting, royal red and rock shrimp fisheries are exempt from a Federal closure for white shrimp). During such closure, no trawling is allowed with a net having less than 4 inches (10.16 cm) stretch mesh within a zone extending seaward from shore 25 nautical miles.

The FMP has curbed the potential negative effects of trawling through the protection of bottom habitat in specific areas and by requiring the use of bycatch reduction devices (BRD) by all penaeid shrimp trawlers. A crucial component for habitat protection was established in Amendment 1 with the prohibition of rock shrimp trawling within the Oculina Bank Habitat Area of Particular Concern. In addition, NMFS is currently reviewing the Council’s proposed Amendment 5, which would require vessel monitoring systems and standard mesh sizes on all rock shrimp vessels.

Through Amendment 6, the Council is considering adjusting the overfishing definitions; establishing minimum stock size thresholds (MSSTs) and maximum fishing mortality thresholds (MFMTs); and modifying the requirements for testing and approving BRDs (BRD protocol).

The Magnuson-Stevens Fishery Conservation and Management Act (Magnuson-Stevens Act) requires that FMPs include overfishing definitions and criteria for determining when overfishing is occurring. NMFS has published guidance on using tools such as MSST and MFMT to assess the condition of a fishery and avoid overfished situations. The Council is reviewing its overfishing definitions in light of current information and is considering establishing values for MSST and MFMT.

In addition, the Magnuson-Stevens Act requires FMPs to minimize bycatch to the extent practicable. The Council believes that by revising the BRD protocol, they could facilitate development of improved BRD technology that could lead to further reductions in bycatch. Following the mandates set by Shrimp FMP Amendment 2 to develop a protocol for BRD testing, the Bycatch Reduction Device Testing Protocol Manual was developed in 1997. In this manual, the specifications test the effectiveness of any new or modified BRD in reducing bycatch of targeted species. The Council is considering modification of the protocol, and how it is administered, to insure that more efficient BRDs are allowed in the fishery.

A scoping meeting to determine the scope of significant issues to be addressed in the DSEIS and the associated Amendment 6 will be conducted at the Council's March 4-8, 2002, meeting in Savannah, GA.

Authority: 6 U.S.C. 1801 et seq.

Dated: February 12, 2002.
Bruce C. Morehead,
Deputy Director, Office of Sustainable Fisheries, National Marine Fisheries Service.

[FR Doc. 02-3979 Filed 2-15-02; 8:45 am]

BILLING CODE 3510-22-S